DEPARTMENT OF COMMERCE

International Trade Administration

[A-489-839]

Common Alloy Aluminum Sheet From the Republic of Türkiye: Final Results of Antidumping Duty Administrative Review; 2022-2023

AGENCY: Enforcement and Compliance, International Trade Administration, Department of Commerce.

SUMMARY: The U.S. Department of Commerce (Commerce) determines that common alloy aluminum sheet (CAAS) from the Republic of Türkiye (Türkiye) was sold in the United States at less than normal value during the period of review (POR) April 1, 2022, through March 31, 2023. Interested parties are invited to comment on these preliminary results.

DATES: Applicable November 14, 2024.

FOR FURTHER INFORMATION CONTACT: Mark Hoadley, AD/CVD Operations, Office VII, Enforcement and Compliance, International Trade Administration, U.S. Department of Commerce, 1401 Constitution Avenue NW, Washington, DC 20230; telephone: (202) 482-3148.

SUPPLEMENTARY INFORMATION:

Background

On May 3, 2024, Commerce published the Preliminary Results in the Federal Register and invited comments from interested parties.¹ On July 22, 2024, Commerce tolled certain deadlines in this administrative proceeding by seven days.² On August 29, 2024, Commerce extended the deadline for the final results of this review to November 6, 2024.³ The review covers the mandatory respondents Assan Alüminyum Sanayi ve Ticaret A.S., Kibar Americas, Inc., and Kibar Dis Ticaret A.S. (collectively, Assan) and Teknik Aluminyum Sanayi A.S. (Teknik). A summary of the events that occurred since publication of the Preliminary Results, as well as a full discussion of the issues raised by parties for these final results, are discussed in the Issues and Decision Memorandum.⁴ Commerce conducted this administrative review in accordance with section 751(a)(1)(B) of the Tariff Act of 1930, as amended (the Act).

¹ See Common Alloy Aluminum Sheet from Türkiye: Preliminary Results of Antidumping Duty Administrative Review; 2022-2023, 89 FR 36759 (May 3, 2024) (Preliminary Results), and accompanying Preliminary Decision Memorandum.

² See Memorandum, “Tolling of Deadlines for Antidumping and Countervailing Duty Proceedings,” dated July 22, 2024.

³ See Memorandum, “Extension of Deadline for Final Results of Antidumping Duty Administrative Review,” dated August 29, 2024.

⁴ See Memorandum, “Issues and Decision Memorandum for the Final Results of the Administrative Review of the Antidumping Duty Order on Common Alloy Aluminum Sheet from Republic of Türkiye; 2022-2023,” dated concurrently with, and hereby adopted by, this notice (Issues and Decision Memorandum).

Scope of the Order ⁵

⁵ Id.; see also Common Alloy Aluminum Sheet from Bahrain, Brazil, Croatia, Egypt, Germany, India, Indonesia, Italy, Oman, Romania, Serbia, Slovenia, South Africa, Spain, Taiwan and the Republic of Turkey: Antidumping Duty Orders, 86 FR 22139 (April 27, 2021) (Order).

The merchandise subject to the Order is CAAS from Türkiye. For a complete description of the scope of the Order, see the Issues and Decision Memorandum

Analysis of Comments Received

All issues raised in parties' case and rebuttal briefs are addressed in the Issues and Decision Memorandum and are listed in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade/gov/public/FRNoticesListLayout.aspx.

Changes Since the Preliminary Results

Based on our analysis of the comments received from interested parties, Commerce made certain changes to the margin calculations for Assan Aluminyum Sanayi ve Ticaret A.S. (Assan) and Teknik Aluminyum Sanayi A.S. (Teknik).⁶

⁶ See the Issues and Decision Memorandum for descriptions of these changes.

Rate for Non-Examined Companies

The statute and Commerce's regulations do not address the establishment of a weighted-average dumping margin to be determined for companies not selected for individual examination when Commerce limits its examination in an administrative review pursuant to section 777A(c)(2) of the Act. Generally, Commerce looks to section 735(c)(5) of the Act, which provides instructions for calculating the all-others rate in an investigation, for guidance when determining the weighted-average dumping margin for companies which were not selected for individual examination in an administrative review. Under section 735(c)(5)(A) of the Act, the all-others rate is normally an amount equal to the weighted average of the estimated weighted-average dumping margins established for exporters and producers individually investigated, excluding rates that are zero, de minimis, or determined entirely on the basis of facts available. For these final results of review, we calculated weighted-average dumping margins for Assan and Teknik that are not zero, de minimis, or based entirely on facts available. Therefore, consistent with Commerce's practice, we determined a dumping margin for the non-examined companies by weight-averaging the margins for Assan and Teknik using publicly ranged sales values for sales of subject merchandise to the United States. The non-examined companies subject to this review are ASAS Aluminyum Sanayi ve Ticaret A.S., Panda Aluminyum A.S., PMS Metal Profil Aluminyum Sanayi ve Ticaret A.S., and TAC Metal Ticaret Anonim Sirketi.

Final Results of the Administrative Review

We determine the following estimated weighted-average dumping margins for the period April 1, 2022, through March 31, 2023:

Exporter or producer | Weight- average dumping margin (percent)
Assan Alüminyum Sanayi ve Ticaret A.S | 2.38
Teknik Aluminyum Sanayi A.S | 2.72
Non-Selected Companies | 2.55

Disclosure and Public Comment

Commerce intends to disclose the calculations performed for these final results of review to interested parties within five days of the date of publication of this notice in accordance with 19 CFR 351.224(b).

Assessment Rates

Pursuant to section 751(a)(2)(A) of the Act and 19 CFR 351.212(b)(1), Commerce will determine, and U.S. Customs and Border Protection (CBP) shall assess, antidumping duties on all appropriate entries of subject merchandise in accordance with the final results of this review. Commerce intends to issue assessment instructions to CBP no earlier than 35 days after the date of publication of the final results of this administrative review in the Federal Register. If a timely summons is filed at the U.S. Court of International Trade, the assessment instructions will direct CBP not to liquidate relevant entries until the time for parties to file a request for a statutory injunction has expired (i.e., within 90 days of publication).

Pursuant to 19 CFR 351.212(b)(1), because Assan's and Teknik's weighted-average dumping margin is not zero or de minimis (i.e., less than 0.5 percent), we calculated importer-specific ad valorem assessment rates based on the ratio of the total amount of dumping calculated for the examined sales to the total entered value of the sales. Where an importer-specific assessment rate is zero or de minimis, we will instruct CBP to liquidate the appropriate entries without regard to antidumping duties.⁷

⁷ See Antidumping Proceeding: Calculation of the Weighted-Average Dumping Margin and Assessment Rate in Certain Antidumping Proceedings; Final Modification, 77 FR 8101, 8103 (February 14, 2012).

Consistent with Commerce's clarification of its assessment practice, for entries of subject merchandise during the POR produced by any of the above-referenced respondents for which they did not know the merchandise was destined for the United States, we will instruct CBP to liquidate such entries at the all-others rate established in the less-than-fair-value (LTFV) investigation of 4.85 percent ad valorem ⁸ if there is no rate for the intermediate company(ies) involved in the transaction.⁹

⁸ See Order, 86 FR at 22142.

⁹ For a full discussion of this practice, see Antidumping and Countervailing Duty Proceedings: Assessment of Antidumping Duties, 68 FR 23954 (May 6, 2003).

For the non-examined companies subject to review, we will instruct CBP to liquidate all applicable entries of subject merchandise during the POR at the rate listed in the table above.

Cash Deposit Requirements

The following cash deposit requirements will be effective for all shipments of subject merchandise entered, or withdrawn from warehouse, for consumption on or after the date of publication of the final results of this administrative review, as provided for by section 751(a)(2)(C) of the Act: (1) the company-specific cash deposit rate for Assan and Teknik will be equal to the weighted-average dumping margin established in the final results of this review for each respondent (except, if that rate is de minimis, then the cash deposit rate will be zero); (2) for producers or exporters not covered in this review but covered in a prior segment of the proceeding, the cash deposit rate will continue to be the company-specific rate published for the most recently-completed segment of this proceeding in which they were reviewed; (3) if the exporter is not a firm covered in this review or a prior segment of the proceeding but the producer is, then the cash deposit rate will be the rate established for the most recently completed segment of this proceeding for the producer of the merchandise; and (4) the cash deposit rate for all other producers or exporters will continue to be 4.85 percent, the all-others rate established in the less-than-fair-value investigation.¹⁰ These cash deposit requirements, when imposed, shall remain in effect until further notice.

¹⁰ See Order, 86 FR at 22142.

Notification to Importers

This notice also serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Administrative Protective Order

This notice also serves as a final reminder to parties subject to an administrative protective order (APO) of their responsibility concerning the disposition of proprietary information disclosed under APO in accordance with 19 CFR 351.305(a)(3), which continues to govern business proprietary information in this segment of the proceeding. Timely written notification of the return/destruction of APO materials, or conversion to judicial protective order, is hereby requested. Failure to comply with the regulations and terms of an APO is a violation which is subject to sanction.

Notification to Interested Parties

We are issuing and publishing these final results in accordance with sections 751(a)(1) and 777(i) of the Act, and 19 CFR 351.213(h)(2) and 351.221(b)(5).

Dated: November 6, 2024.
Abdelali Elouaradia,
Deputy Assistant Secretary for Enforcement and Compliance.

Appendix

List of Topics Discussed in the Issues and Decision Memorandum

I. Summary

II. Background

III. Scope of the Order

IV. Changes Since the Preliminary Results

V. Discussion of the Issues

Comment 1: Calculation of Assan's Duty Drawback Adjustment

Comment 2: Exclusion of Assan from the AD Order on CAAS from Türkiye

Comment 3: Ministerial Errors in Teknik's Calculations

Comment 4: Partial Adverse Facts Available (AFA) for Certain Freight Charges Reported by Assan

Comment 5: Ministerial Error Regarding Assan's Home Market Variables Incurred in Multiple Currencies

Comment 6: Costs Associated with Teknik's Returned Merchandise

Comment 7: Teknik's Freight Revenues

Comment 8: Revise Teknik's COP

VI. Recommendation

[FR Doc. 2024-26511 Filed 11-13-24; 8:45 am]

BILLING CODE 3510-DS-P